DEPARTMENT OF LABOR

Employment and Training Administration

[TA-W-82,503]

Ocwen Loan Servicing, LLC, a Subsidiary of Ocwen Financial Corporation, Including Former Workers of GMAC Mortgage, LLC, an Indirect Subsidiary of Residential Capital, LLC, Waterloo, Iowa; Notice of Revised Determination on Reconsideration

On its own action, the Department reviewed the determination for GMAC Mortgage, LLC, an indirect subsidiary of Residential Capital, LLC, now Ocwen Loan Servicing, LLC, a subsidiary of Ocwen Financial Corporation, Waterloo, Iowa to clarify the worker group. Based on additional and updated information, worker group is clarified as Ocwen Loan Servicing, LLC, a subsidiary of Ocwen Financial Corporation, including former workers of GMAC Mortgage, LLC, an indirect subsidiary of Residential Capital, LLC, Waterloo, Iowa (hereafter referred to as “Ocwen Loan Servicing, LLC” or “the subject firm”). The workers are engaged in activities related to the supply of mortgage loan services.

The worker group excludes workers totally or partially separated (or threatened with such separation) from the subject firm prior to February 15, 2013 (date of bankruptcy finalization).

Based on a careful review and clarification of previously-submitted information and additional information obtained during the reconsideration investigation, the Department determines that Section 222(a)(1) has been met because a significant number or proportion of the workers in Ocwen Loan Servicing, LLC have become totally or partially separated, or are threatened to become totally or partially separated and that Section 222(a)(2)(B) has been met because the workers' firm has shifted to a foreign country a portion of the supply of services like or directly competitive with the mortgage loan services supplied by the subject worker group, which contributed importantly to worker group separations at Ocwen Loan Servicing, LLC.

Conclusion

After careful review of previously-submitted facts and the additional facts obtained during the reconsideration investigation, I determine that workers Ocwen Loan Servicing, LLC, a subsidiary of Ocwen Financial Corporation, including former workers of GMAC Mortgage, LLC, an indirect subsidiary of Residential Capital, LLC, Waterloo, Iowa, who were engaged in employment related to the supply of mortgage loan services, meet the worker group certification criteria under Section 222(a) of the Act, 19 U.S.C. 2272(a). In accordance with Section 223 of the Act, 19 U.S.C. 2273, I make the following certification:

All workers of Ocwen Loan Servicing, LLC, a subsidiary of Ocwen Financial Corporation, including former workers of GMAC Mortgage, LLC, an indirect subsidiary of Residential Capital, LLC, Waterloo, Iowa, who became totally or partially separated from employment on or after February 15, 2013, through two years from the date of this certification, and all workers in the group threatened with total or partial separation from employment on date of certification through two years from the date of certification, are eligible to apply for adjustment assistance under Chapter 2 of Title II of the Trade Act of 1974, as amended.

Signed in Washington, DC this 13th day of May, 2014.
Del Min Amy Chen,
Certifying Officer, Office of Trade Adjustment Assistance.

[FR Doc. 2014-12052 Filed 5-23-14; 8:45 am]

BILLING CODE 4510-FN-P